DEPARTMENT OF COMMERCE

International Trade Adminstration

[A-570-051]

Certain Hardwood Plywood Products From the People's Republic of China: Amended Final Determination of Sales at Less Than Fair Value, and Antidumping Duty Order

AGENCY: Enforcement and Compliance, International Trade Administration, Department of Commerce.

SUMMARY: Based on affirmative final determinations by the Department of Commerce (Commerce) and the International Trade Commission (ITC), Commerce is issuing an antidumping duty order on certain hardwood plywood products (hardwood plywood) from the People's Republic of China (China). We are also amending our Final Determination to correct ministerial errors with respect to the identification of companies receiving a separate rate.

DATES: Applicable January 4, 2018.

FOR FURTHER INFORMATION CONTACT: Amanda Brings or Ryan Mullen, AD/CVD Operations, Office V, Enforcement and Compliance, International Trade Administration, U.S. Department of Commerce, 1401 Constitution Avenue NW, Washington, DC 20230; telephone: (202) 482-3927 or (202) 482-5260, respectively.

Period of Investigation

The period of investigation (POI) is April 1, 2016, through September 30, 2016.

SUPPLEMENTARY INFORMATION:

Background

On November 16, 2017, Commerce published in the Federal Register the Final Determination that hardwood plywood from China is being, or is likely to be, sold in the United States at less than fair value (LTFV), as provided in section 735 of the Tariff Act of 1930, as amended (the Act).¹ From November 16, 2017, to November 27, 2017, Cosco Star International Co., Ltd. and Highland Industries Inc. (Cosco and Highland), Linyi Chengen Import and Export Co., Ltd. (Chengen), and the Coalition for Fair Trade in Hardwood Plywood and its individual members (collectively, the petitioners) submitted ministerial error allegations and rebuttal comments concerning the Final Determination.² On December 8, 2017, Commerce issued its findings related to the ministerial error allegations.³ On December 20, 2017, the ITC notified Commerce of its final affirmative determination that an industry in the United States is materially injured within the meaning of section 735(b)(1)(A)(i) of the Act, by reason of the LTFV imports of hardwood plywood from China.⁴ The ITC also notified Commerce of its determination that critical circumstances do not exist with respect to imports of hardwood plywood from China subject to Commerce's final affirmative critical circumstances finding.

¹ See Certain Hardwood Plywood Products from the People's Republic of China: Final Determination of Sales at Less Than Fair Value, and Final Affirmative Determination of Critical Circumstances, in Part, 82 FR 53460 (November 16, 2017) (Final Determination).

² See Cosco and Highland's Letter, “Hardwood Plywood Products from the People's Republic of China: Ministerial Error Comments on Final Determination,” dated November 16, 2017 (Cosco and Highland Ministerial Error Comments); Chengen's Letter, “Hardwood Plywood Products from the People's Republic of China: Allegation of Ministerial Errors in Final Determination,” dated November 20, 2017 (Chengen Ministerial Error Comments); and Petitioners' Letter, “Certain Hardwood Plywood Products from the People's Republic of China: Response to Ministerial Error Submission,” dated November 27, 2017 (Petitioners' Rebuttal Ministerial Error Comments).

³ See Memorandum, “Antidumping Duty Investigation of Certain Hardwood Plywood Products from the People's Republic of China: Allegations of Ministerial Errors in the Final Determination,” dated December 8, 2017 (Ministerial Error Memorandum).

⁴ See Letter to Gary Taverman, Acting Assistant Secretary of Commerce for Enforcement and Compliance, from Rhonda K. Schmidtlein, Chairman of the U.S. International Trade Commission, regarding certain hardwood plywood products from the People's Republic of China (December 20, 2017) (ITC Letter).

Scope of the Order

For a complete description of the scope of the order, see the Appendix to this notice.

Amendment to Final Determination

Consistent with Commerce's December 8, 2017, findings regarding the interested parties' ministerial error allegations, and pursuant to section 735(e) of the Act and 19 CFR 351.224(e) and (f), Commerce is amending the Final Determination to reflect the correction of ministerial errors it made in spelling the name of Cosco's producer, Feixian Xingying Wood Co., Ltd (Feixian), and Highland's producer, Weifang Hanlin Timber Products Co., Ltd. (Weifang), on the exporter/producer list for separate rate recipients.⁵

⁵ For a detailed discussion of Commerce's ministerial error findings, see Ministerial Error Memorandum.

As a result of this amended final determination, we have corrected the spelling of Feixian and Weifang on the exporter/producer list as follows:

Exporter | Producer | Weighted- average dumping margin (percent) | Cash deposit rate (percent)
Highland Industries Inc | Weifang Hanlin Timber Products Co., Ltd | 183.36 | 171.55
Cosco Star International Co., Ltd | Feixian Xingying Wood Co., Ltd | 183.36 | 171.55

Antidumping Duty Order

In accordance with section 735(d) of the Act, the ITC notified Commerce of its final determination in this investigation, in which it found that an industry in the United States is materially injured, within the meaning of section 735(b)(1)(A)(i) of the Act, by reason of imports of hardwood plywood from China. The ITC also notified Commerce of its determination that critical circumstances do not exist with respect to imports of hardwood plywood from China subject to Commerce's final affirmative critical circumstances finding. Therefore, in accordance with section 735(c)(2) of the Act, we are publishing this antidumping duty order. Because the ITC determined that imports of hardwood plywood from China are materially injuring a U.S. industry, unliquidated entries of such merchandise from China entered or withdrawn from warehouse for consumption, are subject to the assessment of antidumping duties.

As a result of the ITC's final determination, in accordance with section 736(a)(1) of the Act, Commerce will direct U.S. Customs and Border Protection (CBP) to assess, upon further instruction by Commerce, antidumping duties equal to the amount by which the normal value of the merchandise exceeds the export price (or constructed export price) of the merchandise, for all relevant entries of hardwood plywood from China. Antidumping duties will be assessed on unliquidated entries of hardwood plywood from China entered, or withdrawn from warehouse, for consumption on or after June 23, 2017, the date of publication of the Preliminary Determination,⁶ but will not include entries occurring after the expiration of the provisional measures period and before publication of the ITC's final injury determination as further described below.

⁶ See Certain Hardwood Plywood Products from the People's Republic of China: Preliminary Affirmative Determination of Sales at Less Than Fair Value, Preliminary Affirmative Determination of Critical Circumstances, in Part, 82 FR 28629 (June 23, 2017) (Preliminary Determination) and accompanying Preliminary Decision Memorandum.

Suspension of Liquidation

In accordance with section 735(c)(1)(B) of the Act, Commerce will instruct CBP to continue to suspend liquidation on all relevant entries of hardwood plywood from China. These instructions suspending liquidation will remain in effect until further notice.

We will also instruct CBP to require cash deposits at rates equal to the estimated weighted-average dumping margins indicated in the chart below, adjusted where appropriate for export subsidies and estimated domestic subsidy pass-through.⁷ Accordingly, effective on the date of publication of the ITC's final affirmative injury determination, CBP will require, at the same time as importers would normally deposit estimated duties on this subject merchandise, a cash deposit at the rates listed below.⁸ The rate for the China-wide entity applies to all producers or exporters not specifically listed. For the purpose of determining cash deposit rates, the estimated weighted-average dumping margins for imports of subject merchandise from China will be adjusted, as appropriate, for export subsidies found in the final determination of the companion countervailing duty investigation of this merchandise imported from China.⁹

⁷ No party in the less-than-fair-value investigation established eligibility for an adjustment for estimated domestic subsidy pass-through. See Preliminary Determination, unchanged in Final Determination.

⁸ See section 736(a)(3) of the Act.

⁹ See Final Determination.

Provisional Measures

Section 733(d) of the Act states that instructions issued pursuant to an affirmative preliminary determination may not remain in effect for more than four months, except where exporters representing a significant proportion of exports of the subject merchandise request Commerce to extend that four-month period to no more than six months. At the request of the exporters that account for a significant proportion of exports of hardwood plywood from China, we extended the four-month period to six months in this case.¹⁰ In the underlying investigation, Commerce published the Preliminary Determination on June 23, 2017.¹¹ Therefore, the extended period beginning on the date of publication of the Preliminary Determination, ended December 19, 2017. Furthermore, section 737(b) of the Act states that definitive duties are to begin on the date of publication of the ITC's final injury determination.

¹⁰ See Certain Hardwood Plywood Products from the People's Republic of China: Postponement of Final Determination of Sales at Less Than Fair Value Investigation, 82 FR 29827 (June 30, 2017).

¹¹ See Preliminary Determination.

Therefore, in accordance with section 733(d) of the Act and our practice, we will instruct CBP to terminate the suspension of liquidation and to liquidate, without regard to antidumping duties, unliquidated entries of hardwood plywood from China entered, or withdrawn from warehouse, for consumption on or after December 19, 2017, the date on which the provisional measures expired, until and through the day preceding the date of publication of the ITC's final injury determinations in the Federal Register. Suspension of liquidation will resume on the date of publication of the ITC's final determination in the Federal Register.

Critical Circumstances

In its final determination, the ITC did not make an affirmative critical circumstances finding with respect to imports of subject merchandise from China that were subject to Commerce's final affirmative critical circumstances determination. Accordingly, Commerce will instruct CBP to lift suspension and to refund any cash deposit made to secure the payment of estimated antidumping duties with respect to entries of the merchandise entered, or withdrawn from warehouse, for consumption on or after March 25, 2017 (i.e., 90 days prior to the date of publication of the preliminary determination), but before June 23, 2017, the publication date of the Preliminary Determination.

Estimated Weighted-Average Dumping Margin

The weighted-average antidumping duty margin percentages and cash deposit percentages are as follows:

Exporter | Producer | Estimated weighted- average dumping margin (percent) | Cash deposit rate (percent)
Linyi Chengen Import and Export Co., Ltd | Linyi Dongfangjuxin Wood Co., Ltd | 183.36 | 171.55
Anhui Hoda Wood Co., Ltd | Feixian Jianxin Board Factory | 183.36 | 171.55
Anhui Hoda Wood Co., Ltd | Linyi Xicheng Wood Co., Ltd | 183.36 | 171.55
Anhui Hoda Wood Co., Ltd | Linyi Longxin Wood Co., Ltd | 183.36 | 171.55
Anhui Hoda Wood Co., Ltd | Fengxian Jihe Wood Co., Ltd | 183.36 | 171.55
Anhui Hoda Wood Co., Ltd | Xuzhou Chunyiyang Wood Co., Ltd | 183.36 | 171.55
Anhui Hoda Wood Co., Ltd | Linyi Lanshan District Xiangfeng Decorative Board Factory | 183.36 | 171.55
Anhui Hoda Wood Co., Ltd | Linyi Lanshan District Fubai Wood Board Factory | 183.36 | 171.55
Anhui Hoda Wood Co., Ltd | Shandong Jubang Wood Co., Ltd | 183.36 | 171.55
Anhui Hoda Wood Co., Ltd | Feixian Shangye Town Mingda Multi-layered Board Factory | 183.36 | 171.55
Anhui Hoda Wood Co., Ltd | Xuzhou Dayuan Wood Co., Ltd | 183.36 | 171.55
Anhui Hoda Wood Co., Ltd | Linyi Mingzhu Wood Co., Ltd | 183.36 | 171.55
Anhui Hoda Wood Co., Ltd | Linyi Renlin Wood Co., Ltd | 183.36 | 171.55
Celtic Co., Ltd | Linyi Celtic Wood Co., Ltd | 183.36 | 171.55
Celtic Co., Ltd | Pinyi Fuhua Wood Co., Ltd | 183.36 | 171.55
China Friend Limited | Feixian Wanda Wood Factory | 183.36 | 171.55
China Friend Limited | Shandong Huaxin Jiasheng Wood Co., Ltd | 183.36 | 171.55
China Friend Limited | Feixian Xinhe Wood Co., Ltd | 183.36 | 171.55
China Friend Limited | Shandong Dongfang Bayley Wood Co., Ltd | 183.36 | 171.55
China Friend Limited | Xuzhou Yujinfang Wood Co., Ltd | 183.36 | 171.55
China Friend Limited | Linyi Huifeng Wood Industry Co., Ltd | 183.36 | 171.55
China Friend Limited | Linyi Dongfangjuxin Wood Co., Ltd | 183.36 | 171.55
Cosco Star International Co., Ltd | Linyi Huasheng Yongbin Wood Corp | 183.36 | 171.55
Cosco Star International Co., Ltd | Suining Pengxiang Wood Co., Ltd | 183.36 | 171.55
Cosco Star International Co., Ltd | Pizhou Jiangshan Wood Co., Ltd | 183.36 | 171.55
Cosco Star International Co., Ltd | Shandong Union Wood Co. Ltd | 183.36 | 171.55
Cosco Star International Co., Ltd | Linyi Sanfortune Wood Co. Ltd | 183.36 | 171.55
Cosco Star International Co., Ltd | Shandong Anxin Timber Co., Ltd | 183.36 | 171.55
Cosco Star International Co., Ltd | Linyi Evergreen Wood Co., Ltd | 183.36 | 171.55
Cosco Star International Co., Ltd | Shandong Huaxin Jiasheng Wood Co., Ltd | 183.36 | 171.55
Cosco Star International Co., Ltd | Xuzhou Shenghe Wood Co., Ltd | 183.36 | 171.55
Cosco Star International Co., Ltd | Pingyi Jinniu Wood Co., Ltd | 183.36 | 171.55
Cosco Star International Co., Ltd | Linyi Celtic Wood Co., Ltd | 183.36 | 171.55
Cosco Star International Co., Ltd | Linyi Laiyi Timber Industry Co., Ltd | 183.36 | 171.55
Cosco Star International Co., Ltd | Feixian Hongqiang Wood Co., Ltd | 183.36 | 171.55
Cosco Star International Co., Ltd | Feixian Xingying Wood Co., Ltd | 183.36 | 171.55
Cosco Star International Co., Ltd | Linyi City Lanshan District Fubo Wood Factory | 183.36 | 171.55
Deqing China-Africa Foreign Trade Port Co., Ltd | Suqian Welcomewood Products Co., Ltd | 183.36 | 171.55
Deqing China-Africa Foreign Trade Port Co., Ltd | Feixian Hongqiang Wooden Products Co., Ltd | 183.36 | 171.55
Feixian Jinde Wood Factory | Feixian Jinde Wood Factory | 183.36 | 171.55
Feixian Longteng Wood Co., Ltd | Feixian Longteng Wood Co., Ltd | 183.36 | 171.55
Golder International Trade Co., Ltd | Fengxian Shuangxingyuan Wood Co., Ltd | 183.36 | 171.55
Golder International Trade Co., Ltd | Fengxian Fangyuan Wood Co., Ltd | 183.36 | 171.55
Golder International Trade Co., Ltd | Pizhou Jinuoyuan Wood Co., Ltd | 183.36 | 171.55
Golder International Trade Co., Ltd | Xuzhou Changcheng Wood Co., Ltd | 183.36 | 171.55
Golder International Trade Co., Ltd | Xuzhou Jiamei Wood Co., Ltd | 183.36 | 171.55
G.D. Enterprise Limited | International Wood Products (Kunshan) Co., Ltd | 183.36 | 171.55
Happy Wood Industrial Group Co., Ltd | Happy Wood Industrial Group Co., Ltd | 183.36 | 171.55
Henan Hongda Woodcraft Industry Co., Ltd | Henan Hongda Woodcraft Industry Co., Ltd | 183.36 | 171.55
Highland Industries Inc | Weifang Hanlin Timber Products Co., Ltd | 183.36 | 171.55
Highland Industries Inc | Anqiu Hengrui Wood Co., Ltd | 183.36 | 171.55
Highland Industries Inc | Weifang Chenglin Wood Industry Co., Ltd | 183.36 | 171.55
Huainan Mengping Import and Export Co., Ltd | Linyi Qianfeng Panel Factory Co., Ltd | 183.36 | 171.55
Jiangsu High Hope Arser Co., Ltd | Shandong Dongfang Bayley Wood Co., Ltd | 183.36 | 171.55
Jiangsu High Hope Arser Co., Ltd | Xuzhou Zhongtong Wood Co., Ltd | 183.36 | 171.55
Jiangsu High Hope Arser Co., Ltd | Pizhou Arser Wood Co., Ltd | 183.36 | 171.55
Jiangsu High Hope Arser Co., Ltd | Linyi Jinghai Wood Products Factory | 183.36 | 171.55
Jiangsu Qianjiuren International Trading Co., Ltd | Jiangsu Shuren Wood Co., Ltd | 183.36 | 171.55
Jiangsu Shengyang Industrial Joint Stock Co., Ltd | Jiangsu Shengyang Industrial Joint Stock Co., Ltd | 183.36 | 171.55
Jiangsu Top Point International Co., Ltd | Linyi Jinkun Wood Co., Ltd | 183.36 | 171.55
Jiangsu Top Point International Co., Ltd | Feixian Huafeng Wood Co., Ltd | 183.36 | 171.55
Jiangsu Top Point International Co., Ltd | Feixian Xindongfang Wood Co., Ltd | 183.36 | 171.55
Jiangsu Top Point International Co., Ltd | Feixian Fuyang Plywood Factory | 183.36 | 171.55
Jiangsu Top Point International Co., Ltd | Fengxian Shuangxingyuan Wood Co., Ltd | 183.36 | 171.55
Jiangsu Top Point International Co., Ltd | Linyi Celtic Wood Co., Ltd | 183.36 | 171.55
Jiashan Dalin Wood Industry Co., Ltd | Jiashan Dalin Wood Industry Co., Ltd | 183.36 | 171.55
Jiaxing Gsun Imp. & Exp. Co., Ltd | Fengxian Hengyuan Wood Industry Co., Ltd | 183.36 | 171.55
Jiaxing Gsun Imp. & Exp. Co., Ltd | Feixian Junyang Wood Industry Co., Ltd | 183.36 | 171.55
Jiaxing Gsun Imp. & Exp. Co., Ltd | Feixian Junbang Wood Factory | 183.36 | 171.55
Jiaxing Gsun Imp. & Exp. Co., Ltd | Linyi City Lanshan District Mingda Wood Factory | 183.36 | 171.55
Jiaxing Gsun Imp. & Exp. Co., Ltd | Feixian Hongyun Wood Factory | 183.36 | 171.55
Jiaxing Gsun Imp. & Exp. Co., Ltd | Linyi City Lanshan District Xiangfeng Wood Decoration Factory | 183.36 | 171.55
Jiaxing Gsun Imp. & Exp. Co., Ltd | Shandong Jubang Wood Co., Ltd | 183.36 | 171.55
Jiaxing Gsun Imp. & Exp. Co., Ltd | Feixian Yixin Wood Processing Factory | 183.36 | 171.55
Jiaxing Gsun Imp. & Exp. Co., Ltd | Pizhou Wantai Wood Industry Co., Ltd | 183.36 | 171.55
Jiaxing Gsun Imp. & Exp. Co., Ltd | Feixian Fengxiang Wood Processing Factory | 183.36 | 171.55
Jiaxing Gsun Imp. & Exp. Co., Ltd | Shandong Compete Wood Co., Ltd | 183.36 | 171.55
Jiaxing Gsun Imp. & Exp. Co., Ltd | Linyi Kunyu Plywood Factory | 183.36 | 171.55
Jiaxing Hengtong Wood Co., Ltd | Jiaxing Hengtong Wood Co., Ltd | 183.36 | 171.55
Jiaxing Kaochuan Woodwork Co., Ltd | Jiaxing Kaochuan Woodwork Co., Ltd | 183.36 | 171.55
Leadwood Industrial Corp | Leadwood Industrial Corp | 183.36 | 171.55
Lianyungang Yuantai International Trade Co., Ltd | Xinyi Chaohua Wood Co., Ltd | 183.36 | 171.55
Lianyungang Yuantai International Trade Co., Ltd | Linyi Huasheng Yongbin Wood Corp | 183.36 | 171.55
Lianyungang Yuantai International Trade Co., Ltd | Linyi City Lanshan District Baoshan Wood Factory | 183.36 | 171.55
Lianyungang Yuantai International Trade Co., Ltd | Pizhou Yuanxing Wood Co., Ltd | 183.36 | 171.55
Lianyungang Yuantai International Trade Co., Ltd | Linyi Celtic Wood Co., Ltd | 183.36 | 171.55
Lianyungang Yuantai International Trade Co., Ltd | Linyi City Lanshan District Fubo Wood Factory | 183.36 | 171.55
Lianyungang Yuantai International Trade Co., Ltd | Fei County Hongsheng Wood Co., Ltd | 183.36 | 171.55
Lianyungang Yuantai International Trade Co., Ltd | Xuzhou Hongwei Wood Co., Ltd | 183.36 | 171.55
Lianyungang Yuantai International Trade Co., Ltd | Pizhou Jinguoyuan Wood Co., Ltd | 183.36 | 171.55
Lianyungang Yuantai International Trade Co., Ltd | Feixian Wanda Wood Co., Ltd | 183.36 | 171.55
Lianyungang Yuantai International Trade Co., Ltd | Fengxian Shuangxingyuan Wood Co., Ltd | 183.36 | 171.55
Lianyungang Yuantai International Trade Co., Ltd | Feixian Hongqiang Wood Co., Ltd | 183.36 | 171.55
Lianyungang Yuantai International Trade Co., Ltd | Linyi City Lanshan District Fuerda Wood Factory | 183.36 | 171.55
Lianyungang Yuantai International Trade Co., Ltd | Fengxian Hengyuan Wood Industry Co., Ltd | 183.36 | 171.55
Lianyungang Yuantai International Trade Co., Ltd | Feixian Xingying Wood Co., Ltd | 183.36 | 171.55
Lianyungang Yuantai International Trade Co., Ltd | Shandong Jubang Wood Co., Ltd | 183.36 | 171.55
Lianyungang Yuantai International Trade Co., Ltd | Feixian Junyang Wood Industry Co., Ltd | 183.36 | 171.55
Lianyungang Yuantai International Trade Co., Ltd | Feixian Junbang Wood Factory | 183.36 | 171.55
Lianyungang Yuantai International Trade Co., Ltd | Feixian Hongyun Wood Factory | 183.36 | 171.55
Lianyungang Yuantai International Trade Co., Ltd | Linyi City Lanshan District Xiangfeng Wood Decoration Factory | 183.36 | 171.55
Lianyungang Yuantai International Trade Co., Ltd | Linyi Renlin Wood Industry Co., Ltd | 183.36 | 171.55
Lianyungang Yuantai International Trade Co., Ltd | Linyi City Lanshan District Mingda Wood Factory | 183.36 | 171.55
Linyi City Dongfang Fukai Wood Industry Co., Ltd | Linyi City Dongfang Fukai Wood Industry Co., Ltd | 183.36 | 171.55
Linyi City Dongfang Jinxin Economic and Trade Co., Ltd | Linyi City Dongfang Jinxin Economic and Trade Co., Ltd | 183.36 | 171.55
Linyi City Shenrui International Trade Co., Ltd | Linyi City Dongfang Fuchao Wood Co., Ltd | 183.36 | 171.55
Linyi City Shenrui International Trade Co., Ltd | Feixian Zhenghua Wood Factory | 183.36 | 171.55
Linyi Dahua Wood Co., Ltd | Linyi Dahua Wood Co., Ltd | 183.36 | 171.55
Linyi Evergreen Wood Co., Ltd | Linyi Evergreen Wood Co., Ltd | 183.36 | 171.55
Linyi Glary Plywood Co., Ltd | Linyi Glary Plywood Co., Ltd | 183.36 | 171.55
Linyi Hengsheng Wood Industry Co., Ltd | Linyi Hengsheng Wood Industry Co., Ltd | 183.36 | 171.55
Linyi Huasheng Yongbin Wood Co., Ltd | Linyi Huasheng Yongbin Wood Co., Ltd | 183.36 | 171.55
Linyi Jiahe Wood Industry Co., Ltd | Linyi Jiahe Wood Industry Co., Ltd | 183.36 | 171.55
Linyi Linhai Wood Co., Ltd | Linyi Linhai Wood Co., Ltd | 183.36 | 171.55
Linyi Mingzhu Wood Co., Ltd | Linyi Mingzhu Wood Co., Ltd | 183.36 | 171.55
Linyi Sanfortune Wood Co., Ltd | Linyi Sanfortune Wood Co., Ltd | 183.36 | 171.55
Linyi Tian He Wooden Industry Co., Ltd | Linyi Tian He Wooden Industry Co., Ltd | 183.36 | 171.55
Pingyi Jinniu Wood Co., Ltd | Pingyi Jinniu Wood Co., Ltd | 183.36 | 171.55
Pizhou Dayun Import & Export Trade Co., Ltd | Xuzhou Camry Wood Co., Ltd | 183.36 | 171.55
Pizhou Jin Sheng Yuan International Trade Co., Ltd | Xuzhou Chengxin Wood Co., Ltd | 183.36 | 171.55
Pizhou Jin Sheng Yuan International Trade Co., Ltd | Xuzhou Golden River Wood Co., Ltd | 183.36 | 171.55
Qingdao Good Faith Import and Export Co., Ltd | Linyi Fubo Wood Co., Ltd | 183.36 | 171.55
Qingdao Good Faith Import and Export Co., Ltd | Linyi Tuopu Zhixin Wooden Industry Co., Ltd | 183.36 | 171.55
Qingdao Good Faith Import and Export Co., Ltd | Linyi Haisen Wood Co., Ltd | 183.36 | 171.55
Qingdao Good Faith Import and Export Co., Ltd | Linyi Jubang Wood Co., Ltd | 183.36 | 171.55
Qingdao Good Faith Import and Export Co., Ltd | Xuzhou Changcheng Wood Co., Ltd | 183.36 | 171.55
Qingdao Good Faith Import and Export Co., Ltd | Xuzhou Jinguoyuan Wood Co., Ltd | 183.36 | 171.55
Qingdao Good Faith Import and Export Co., Ltd | Xuzhou Xuexin Wood Co., Ltd | 183.36 | 171.55
Qingdao Good Faith Import and Export Co., Ltd | Anhui Fuyang Qinglin Wood Products Co., Ltd | 183.36 | 171.55
Qingdao Good Faith Import and Export Co., Ltd | Anhui Huijin Wood Co., Ltd | 183.36 | 171.55
Qingdao Good Faith Import and Export Co., Ltd | Anhui Lingfeng Wood Co., Ltd | 183.36 | 171.55
Qingdao Good Faith Import and Export Co., Ltd | Suzhou Dongsheng Wood Co., Ltd | 183.36 | 171.55
Qingdao Good Faith Import and Export Co., Ltd | Pizhou Zhongxin Wood Co., Ltd | 183.36 | 171.55
Qingdao Good Faith Import and Export Co., Ltd | Xuzhou Spring Art Yang Wood Industry Co., Ltd | 183.36 | 171.55
Qingdao Top P&Q International Corp | Linyi Dahua Wood Products Co., Ltd | 183.36 | 171.55
Qingdao Top P&Q International Corp | Yutai Zezhong Wood Products Co., Ltd | 183.36 | 171.55
Qingdao Top P&Q International Corp | Linyi Evergreen Wood Products Co., Ltd | 183.36 | 171.55
Qingdao Top P&Q International Corp | Suzhou Dongsheng Wood Co., Ltd | 183.36 | 171.55
Qingdao Top P&Q International Corp | Shandong Dongfang Bayley Wood Products Co., Ltd | 183.36 | 171.55
Qingdao Top P&Q International Corp | Feixian Tanyi Youchengjiafu Wood Products Co., Ltd | 183.36 | 171.55
Qingdao Top P&Q International Corp | Feixian Mingteng Wood Products Co., Ltd | 183.36 | 171.55
Qingdao Top P&Q International Corp | Linyi Dahua Wood Products Co., Ltd | 183.36 | 171.55
Qingdao Top P&Q International Corp | Yutai Zezhong Wood Products Co., Ltd | 183.36 | 171.55
Qingdao Top P&Q International Corp | Linyi Qianfeng Wood Products Co., Ltd | 183.36 | 171.55
Qingdao Top P&Q International Corp | Shandong Jinqiu Wood Products Co., Ltd | 183.36 | 171.55
Qingdao Top P&Q International Corp | Linyi Laite Plywood Factory | 183.36 | 171.55
Qingdao Top P&Q International Corp | Xuzhou Chunyiyang Wood Products Co. Ltd | 183.36 | 171.55
Qingdao Top P&Q International Corp | Feixian Lijun Wood Products Co., Ltd | 183.36 | 171.55
Qingdao Top P&Q International Corp | Feixian Shuangfeng Wood Products Co., Ltd | 183.36 | 171.55
Qingdao Top P&Q International Corp | Linyi Longxin Wood Products Co., Ltd | 183.36 | 171.55
Qingdao Top P&Q International Corp | Linyi Lanshan Wanmei Wood Factory | 183.36 | 171.55
Qingdao Top P&Q International Corp | Feixian Xinhe Wood Products Co., Ltd | 183.36 | 171.55
Qingdao Top P&Q International Corp | Linyi Chenyuan Wood Products Co., Ltd | 183.36 | 171.55
Qingdao Top P&Q International Corp | Di Birch Wood Industry Co., Ltd | 183.36 | 171.55
Qingdao Top P&Q International Corp | Shandong Junxing Wood Products Co., Ltd | 183.36 | 171.55
Qingdao Top P&Q International Corp | Linyi Jiexin Wood Products Factory | 183.36 | 171.55
Qingdao Top P&Q International Corp | Xuzhou Fuyu Wood Industry Co., Ltd | 183.36 | 171.55
Qingdao Top P&Q International Corp | Jiangsu Lishun Industry And Trade Co., Ltd | 183.36 | 171.55
Qingdao Top P&Q International Corp | Linyi Evergreen Wood Products Co., Ltd | 183.36 | 171.55
Qingdao Top P&Q International Corp | Anhui Qinglin Wood Products Co., Ltd | 183.36 | 171.55
Qingdao Top P&Q International Corp | Linyi Haisen Wood Products Co., Ltd | 183.36 | 171.55
Qingdao Top P&Q International Corp | Linyi Hongze Plywood Factory | 183.36 | 171.55
Qingdao Top P&Q International Corp | Linyi Kaifeng Wood Products Co., Ltd | 183.36 | 171.55
Qingdao Top P&Q International Corp | Feixian Fugang Wood Products Co., Ltd | 183.36 | 171.55
Qingdao Top P&Q International Corp | Lanling Longziyun Wood Products Co., Ltd | 183.36 | 171.55
Qingdao Top P&Q International Corp | Linyi Fuerda Wood Products Co., Ltd | 183.36 | 171.55
Qingdao Top P&Q International Corp | Fengxian Shuangxingyuan Wood Co., Ltd | 183.36 | 171.55
Qingdao Top P&Q International Corp | Suzhou Dongsheng Wood Co., Ltd | 183.36 | 171.55
Qingdao Top P&Q International Corp | Feixan Dexin Wood Products Co., Ltd | 183.36 | 171.55
Qingdao Top P&Q International Corp | Shandong Dongfang Bayley Wood Products Co., Ltd | 183.36 | 171.55
Qingdao Top P&Q International Corp | Linyi Huifeng Wood Products Co., Ltd | 183.36 | 171.55
Qingdao Top P&Q International Corp | Feixian Kailin Wood Products Co., Ltd | 183.36 | 171.55
Shandong Anxin Timber Co., Ltd | Shandong Anxin Timber Co., Ltd | 183.36 | 171.55
Shandong Huaxin Jiasheng Wood Co., Ltd | Shandong Huaxin Jiasheng Wood Co., Ltd | 183.36 | 171.55
Shandong Huiyu International Trade Co., Ltd | Linyi Huifeng Wood Products Co., Ltd | 183.36 | 171.55
Shandong Jinluda International Trade Co., Ltd | Shandong Union Wood Co., Ltd | 183.36 | 171.55
Shandong Jinluda International Trade Co., Ltd | Shandong Jinqiu Wood Co., Ltd | 183.36 | 171.55
Shandong Johnson Trading Co., Ltd | Fengxian Hengyuan Wood Industry Co., Ltd | 183.36 | 171.55
Shandong Johnson Trading Co., Ltd | Feixian Junyang Wood Industry Co., Ltd | 183.36 | 171.55
Shandong Johnson Trading Co., Ltd | Feixian Junbang Wood Factory | 183.36 | 171.55
Shandong Johnson Trading Co., Ltd | Linyi City Lanshan District Mingda Wood Factory | 183.36 | 171.55
Shandong Johnson Trading Co., Ltd | Feixian Hongyun Wood Factory | 183.36 | 171.55
Shandong Johnson Trading Co., Ltd | Linyi City Lanshan District Xiangfeng Wood Decoration Factory | 183.36 | 171.55
Shandong Johnson Trading Co., Ltd | Linyi Lanshan Yulin Wood Factory | 183.36 | 171.55
Shandong Johnson Trading Co., Ltd | Shandong Jubang Wood Co., Ltd | 183.36 | 171.55
Shandong Johnson Trading Co., Ltd | Feixian Yixin Wood Processing Factory | 183.36 | 171.55
Shandong Johnson Trading Co., Ltd | Linyi Renlin Wood Industry Co., Ltd | 183.36 | 171.55
Shandong Johnson Trading Co., Ltd | Xuzhou Dayuan Wood Industry Co., Ltd | 183.36 | 171.55
Shandong Johnson Trading Co., Ltd | Xuzhou Yuantai Wood Co., Ltd | 183.36 | 171.55
Shandong Johnson Trading Co., Ltd | Pizhou Wantai Wood Industry Co., Ltd | 183.36 | 171.55
Shandong Johnson Trading Co., Ltd | Feixian Desheng Wood Industry Factory | 183.36 | 171.55
Shandong Johnson Trading Co., Ltd | Xuzhou Zhongcai Wood Industry Co., Ltd | 183.36 | 171.55
Shandong Johnson Trading Co., Ltd | Feixian Fengxiang Wood Processing Factory | 183.36 | 171.55
Shandong Johnson Trading Co., Ltd | Shandong Compete Wood Co., Ltd | 183.36 | 171.55
Shandong Qishan International Trading Co., Ltd | Linyi Tuopu Zhixin Wooden Industry Co., Ltd | 183.36 | 171.55
Shandong Senmanqi Import & Export Co., Ltd | Shandong Jinqiu Wood Co., Ltd | 183.36 | 171.55
Shandong Shengdi International Trading Co., Ltd | Qufu Shengda Wood Co., Ltd | 183.36 | 171.55
Shanghai Brightwood Trading Co., Ltd | Linyi Jinghua Wood Industry Co., Ltd | 183.36 | 171.55
Shanghai Brightwood Trading Co., Ltd | Linyi Lianbang Wood Industry Co., Ltd | 183.36 | 171.55
Shanghai Brightwood Trading Co., Ltd | Linyi Huada Wood Industry Co., Ltd | 183.36 | 171.55
Shanghai Brightwood Trading Co., Ltd | Linyi Laite Board Factory | 183.36 | 171.55
Shanghai Brightwood Trading Co., Ltd | Linyi Yuqiao Board Factory | 183.36 | 171.55
Shanghai Brightwood Trading Co., Ltd | Feixian Huafeng Wood Industry Co., Ltd | 183.36 | 171.55
Shanghai Brightwood Trading Co., Ltd | Xuzhou Shuangxingyuan Wood Industry Co., Ltd | 183.36 | 171.55
Shanghai Brightwood Trading Co., Ltd | Linyi Youcheng Jiafu Wood Industry Co., Ltd | 183.36 | 171.55
Shanghai Brightwood Trading Co., Ltd | Linyi Lanshan Jinhao Board Factory | 183.36 | 171.55
Shanghai Brightwood Trading Co., Ltd | Siyang Dazhong Wood Product Factory | 183.36 | 171.55
Shanghai Brightwood Trading Co., Ltd | Binzhou Yongsheng Artificial Board Industrial Trade Co., Ltd | 183.36 | 171.55
Shanghai Brightwood Trading Co., Ltd | Linyi Senpeng Wood Industry Co., Ltd | 183.36 | 171.55
Shanghai Brightwood Trading Co., Ltd | Dangshan County Weidi Wood Industry Co., Ltd | 183.36 | 171.55
Shanghai Brightwood Trading Co., Ltd | Yutai County Zezhong Wood Industry Co., Ltd | 183.36 | 171.55
Shanghai Brightwood Trading Co., Ltd | Linyi Huasheng Yongbin Wood Co., Ltd | 183.36 | 171.55
Shanghai Brightwood Trading Co., Ltd | Linyi Hengan Wood Industry Co., Ltd | 183.36 | 171.55
Shanghai Futuwood Trading Co., Ltd | Linyi Jinghua Wood Industry Co., Ltd | 183.36 | 171.55
Shanghai Futuwood Trading Co., Ltd | Linyi Lianbang Wood Industry Co., Ltd | 183.36 | 171.55
Shanghai Futuwood Trading Co., Ltd | Linyi Huada Wood Industry Co., Ltd | 183.36 | 171.55
Shanghai Futuwood Trading Co., Ltd | Linyi Jinkun Wood Industry Co., Ltd | 183.36 | 171.55
Shanghai Futuwood Trading Co., Ltd | Linyi Yuqiao Board Factory | 183.36 | 171.55
Shanghai Futuwood Trading Co., Ltd | Linyi Laite Board Factory | 183.36 | 171.55
Shanghai Futuwood Trading Co., Ltd | Linyi Tuopu Zhixin Wooden Industry Co., Ltd | 183.36 | 171.55
Shanghai Futuwood Trading Co., Ltd | Feixian Huafeng Wood Industry Co., Ltd | 183.36 | 171.55
Shanghai Futuwood Trading Co., Ltd | Xuzhou Shuangxingyuan Wood Industry Co., Ltd | 183.36 | 171.55
Shanghai Futuwood Trading Co., Ltd | Linyi Youcheng Jiafu Wood Industry Co., Ltd | 183.36 | 171.55
Shanghai Futuwood Trading Co., Ltd | Shandong Qingyuan Wood Industry Co., Ltd | 183.36 | 171.55
Shanghai Futuwood Trading Co., Ltd | Linyi Lanshan Jinhao Board Factory | 183.36 | 171.55
Shanghai Futuwood Trading Co., Ltd | Linyi Lanshan Fubai Wood Industry Board Factory | 183.36 | 171.55
Shanghai Futuwood Trading Co., Ltd | Siyang Dazhong Wood Product Factory | 183.36 | 171.55
Shanghai Futuwood Trading Co., Ltd | Binzhou Yongsheng Artificial Board Industrial Trade Co., Ltd | 183.36 | 171.55
Shanghai Futuwood Trading Co., Ltd | Shandong Jinqiu Wood Industry Co., Ltd | 183.36 | 171.55
Shanghai Futuwood Trading Co., Ltd | Linyi Senpeng Wood Industry Co., Ltd | 183.36 | 171.55
Shanghai Futuwood Trading Co., Ltd | Xuzhou Heng'an Wood Industry Co., Ltd | 183.36 | 171.55
Shanghai Futuwood Trading Co., Ltd | Dangshan Weidi Wood Industry Co., Ltd | 183.36 | 171.55
Shanghai Futuwood Trading Co., Ltd | Fengxian Jihe Wood Industry Co., Ltd | 183.36 | 171.55
Shanghai Futuwood Trading Co., Ltd | Yutai Zezhong Wood Industry Co., Ltd | 183.36 | 171.55
Shanghai Futuwood Trading Co., Ltd | Linyi Huasheng Yongbin Wood Co., Ltd | 183.36 | 171.55
Shanghai Futuwood Trading Co., Ltd | Linyi Kaifeng Wood Board Factory | 183.36 | 171.55
Shanghai Futuwood Trading Co., Ltd | Linyi Mingda Wood Industry Co., Ltd | 183.36 | 171.55
Shanghai Futuwood Trading Co., Ltd | Yangxin County Xintong Decorative Materials Co., Ltd | 183.36 | 171.55
Shanghai Futuwood Trading Co., Ltd | Pingyi County Zhongli Wood Products Factory | 183.36 | 171.55
Shanghai Futuwood Trading Co., Ltd | Pingyi County Yuxin Board Factory | 183.36 | 171.55
Shanghai Futuwood Trading Co., Ltd | Linyi Mingzhu Wood Co., Ltd | 183.36 | 171.55
Shanghai Luli Trading Co., Ltd | Feixian Wanda Wood Factory | 183.36 | 171.55
Shanghai Luli Trading Co., Ltd | Shandong Huaxin Jiasheng Wood Co., Ltd | 183.36 | 171.55
Shanghai Luli Trading Co., Ltd | Feixian Xinhe Wood Co., Ltd | 183.36 | 171.55
Shanghai Luli Trading Co., Ltd | Xuzhou Yujinfang Wood Co., Ltd | 183.36 | 171.55
Shanghai Luli Trading Co., Ltd | Linyi Huifeng Wood Industry Co., Ltd | 183.36 | 171.55
Shanghai S&M Trade Co., Ltd | LinYi Celtic Wood Co., Ltd | 183.36 | 171.55
Shanghai S&M Trade Co., Ltd | Linyi Lanshan District Jinhao Wood Factory | 183.36 | 171.55
Shanghai S&M Trade Co., Ltd | Jiangsu Shuren Wood Industry Co., Ltd | 183.36 | 171.55
Shanghai S&M Trade Co., Ltd | Jiangsu Sending Wood Industry Co., Ltd | 183.36 | 171.55
Smart Gift International | LinYi Celtic Wood Co., Ltd | 183.36 | 171.55
Smart Gift International | Linyi Lanshan District Jinhao Wood Factory | 183.36 | 171.55
Smart Gift International | Jiangsu Shuren Wood Industry Co., Ltd | 183.36 | 171.55
Smart Gift International | Jiangsu Sending Wood Industry Co., Ltd | 183.36 | 171.55
Suining Pengxiang Wood Co., Ltd | Suining Pengxiang Wood Co., Ltd | 183.36 | 171.55
Sumec International Technology Co., Ltd | Suqian Huilin Wood Industry Co., Ltd | 183.36 | 171.55
Sumec International Technology Co., Ltd | Shandong Junxing Wood Industry Co., Ltd | 183.36 | 171.55
Sumec International Technology Co., Ltd | Linyi Longxin Wood Industry Co., Ltd | 183.36 | 171.55
Sumec International Technology Co., Ltd | Linyi Xicheng Wood Industry Co., Ltd | 183.36 | 171.55
Sumec International Technology Co., Ltd | Feixian County Mingda Multilayered Board Factory | 183.36 | 171.55
Sumec International Technology Co., Ltd | Linyi Celtic Wood Industry Co., Ltd | 183.36 | 171.55
Sumec International Technology Co., Ltd | Shandong Haote Decorative Materials Co., Ltd | 183.36 | 171.55
Sumec International Technology Co., Ltd | Linyi City Lanshan District Linyu Board Factory | 183.36 | 171.55
Sumec International Technology Co., Ltd | Linyi City Lanshan District Xiangfeng Decorative Board Factory | 183.36 | 171.55
Sumec International Technology Co., Ltd | Linyi City Baoshan Board Factory | 183.36 | 171.55
Sumec International Technology Co., Ltd | Feixian Xingying Wood Industry Co., Ltd | 183.36 | 171.55
Sumec International Technology Co., Ltd | Fengxian Jihe Wood Industry Co., Ltd | 183.36 | 171.55
Sumec International Technology Co., Ltd | Xuzhou Jiangshan Wood Industry Co., Ltd | 183.36 | 171.55
Sumec International Technology Co., Ltd | Xuzhou Senyuan Wood Products Co., Ltd | 183.36 | 171.55
Sumec International Technology Co., Ltd | Xuzhou Jinguoyuan Wood Industry Co., Ltd | 183.36 | 171.55
Sumec International Technology Co., Ltd | Xuzhou Chunyiyang Wood Industry Co., Ltd | 183.36 | 171.55
Sumec International Technology Co., Ltd | Zibo Sumaida Wood Industry Co., Ltd | 183.36 | 171.55
Suqian Hopeway International Trade Co., Ltd | Xuzhou Henglin Wood Co., Ltd | 183.36 | 171.55
Suqian Hopeway International Trade Co., Ltd | Qufu Shengda Wood Co., Ltd | 183.36 | 171.55
Suqian Hopeway International Trade Co., Ltd | Pizhou Xuexin Wood Products Co., Ltd | 183.36 | 171.55
Suqian Hopeway International Trade Co., Ltd | Pizhou Jiangshan Wood Co., Ltd | 183.36 | 171.55
Suqian Hopeway International Trade Co., Ltd | Shandong Union Wood Co., Ltd | 183.36 | 171.55
Suqian Hopeway International Trade Co., Ltd | Linyi City Lanshan District Fubo Wood Factory | 183.36 | 171.55
Suqian Hopeway International Trade Co., Ltd | Linyi Mingzhu Wood Co., Ltd | 183.36 | 171.55
Suqian Hopeway International Trade Co., Ltd | Suzhou Dongsheng Wood Co., Ltd | 183.36 | 171.55
Suqian Hopeway International Trade Co., Ltd | Linyi Jiahe Wood Industry Co., Ltd | 183.36 | 171.55
Suqian Hopeway International Trade Co., Ltd | Linyi Dahua Wood Co., Ltd | 183.36 | 171.55
Suqian Yaorun Trade Co., Ltd | Pizhou Jiangshan Wood Co., Ltd | 183.36 | 171.55
Suqian Yaorun Trade Co., Ltd | Suqian Bairun Wood Co., Ltd | 183.36 | 171.55
Suzhou Dongsheng Wood Co., Ltd | Suzhou Dongsheng Wood Co., Ltd | 183.36 | 171.55
Suzhou Fengshuwan Import and Exports Trade Co., Ltd | Xuzhou Henglin Wood Co., Ltd | 183.36 | 171.55
Suzhou Fengshuwan Import and Exports Trade Co., Ltd | Qufu Shengda Wood Co., Ltd | 183.36 | 171.55
Suzhou Fengshuwan Import and Exports Trade Co., Ltd | Pizhou Xuexin Wood Products Co., Ltd | 183.36 | 171.55
Suzhou Fengshuwan Import and Exports Trade Co., Ltd | Pizhou Jiangshan Wood Co. Ltd | 183.36 | 171.55
Suzhou Fengshuwan Import and Exports Trade Co., Ltd | Shandong Union Wood Co. Ltd | 183.36 | 171.55
Suzhou Fengshuwan Import and Exports Trade Co., Ltd | Linyi City Lanshan District Fubo Wood Factory | 183.36 | 171.55
Suzhou Fengshuwan Import and Exports Trade Co., Ltd | Linyi Mingzhu Wood Co., Ltd | 183.36 | 171.55
Suzhou Fengshuwan Import and Exports Trade Co., Ltd | Suzhou Dongsheng Wood Co., Ltd | 183.36 | 171.55
Suzhou Fengshuwan Import and Exports Trade Co., Ltd | Linyi Jiahe Wood Industry Co., Ltd | 183.36 | 171.55
Suzhou Fengshuwan Import and Exports Trade Co., Ltd | Linyi Dahua Wood Co., Ltd | 183.36 | 171.55
Suzhou Oriental Dragon Import and Export Co., Ltd | Linyi Tiancai Timber Co., Ltd | 183.36 | 171.55
Suzhou Oriental Dragon Import and Export Co., Ltd | Lingyi Huasheng Yongbin Wood Co., Ltd | 183.36 | 171.55
Suzhou Oriental Dragon Import and Export Co., Ltd | Linyi Xicheng Wood Products Co., Ltd | 183.36 | 171.55
Suzhou Oriental Dragon Import and Export Co., Ltd | Linyi Longxin Wood Co., Ltd | 183.36 | 171.55
Suzhou Oriental Dragon Import and Export Co., Ltd | Linyi Oriental Fuchao Wood Co., Ltd | 183.36 | 171.55
Suzhou Oriental Dragon Import and Export Co., Ltd | Linyi Qianfeng Wood Co., Ltd | 183.36 | 171.55
Suzhou Oriental Dragon Import and Export Co., Ltd | Feixian Wanda Wood Factory | 183.36 | 171.55
Suzhou Oriental Dragon Import and Export Co., Ltd | Shandong Union Wood Co., Ltd | 183.36 | 171.55
Suzhou Oriental Dragon Import and Export Co., Ltd | Shandong Jinqiu Wood Corporation | 183.36 | 171.55
Suzhou Oriental Dragon Import and Export Co., Ltd | Yinhe Machinery Chemical Limited Company of Shandong Province | 183.36 | 171.55
Suzhou Oriental Dragon Import and Export Co., Ltd | Linyi City Yongsen Wood Corp | 183.36 | 171.55
Suzhou Oriental Dragon Import and Export Co., Ltd | Xuzhou Changcheng Wood Co., Ltd | 183.36 | 171.55
Suzhou Oriental Dragon Import and Export Co., Ltd | Pizhou Fushen Wood Co., Ltd | 183.36 | 171.55
Suzhou Oriental Dragon Import and Export Co., Ltd | Pizhou Yuanxing Wood Co., Ltd | 183.36 | 171.55
Suzhou Oriental Dragon Import and Export Co., Ltd | Xuzhou Yuantai Wood Co., Ltd | 183.36 | 171.55
Suzhou Oriental Dragon Import and Export Co., Ltd | Xuzhou Hongfu Wood Co., Ltd | 183.36 | 171.55
Suzhou Oriental Dragon Import and Export Co., Ltd | Feng County Shuangxingyuan Wood | 183.36 | 171.55
Suzhou Oriental Dragon Import and Export Co., Ltd | Anhui Fuyang Qinglin Wood Products Co., Ltd | 183.36 | 171.55
Suzhou Oriental Dragon Import and Export Co., Ltd | Linyi Dahua Wood Co., Ltd | 183.36 | 171.55
Suzhou Oriental Dragon Import and Export Co., Ltd | Juxian Dechang Wood Co., Ltd | 183.36 | 171.55
Suzhou Oriental Dragon Import and Export Co., Ltd | Feixian Jinhao Wood Board Plant | 183.36 | 171.55
Suzhou Oriental Dragon Import and Export Co., Ltd | Siyang Dahua Plywood Plant | 183.36 | 171.55
Suzhou Oriental Dragon Import and Export Co., Ltd | Linyi Lanshan District Fubo Woods Factory | 183.36 | 171.55
Suzhou Oriental Dragon Import and Export Co., Ltd | Xuzhou Deheng Wood Co., Ltd | 183.36 | 171.55
Suzhou Oriental Dragon Import and Export Co., Ltd | Linyi Kaifeng Wood Board Factory | 183.36 | 171.55
Suzhou Oriental Dragon Import and Export Co., Ltd | Linyi Zhenyuan Wood Products Co., Ltd | 183.36 | 171.55
Suzhou Oriental Dragon Import and Export Co., Ltd | Xuzhou Weilin Wood Co., Ltd | 183.36 | 171.55
Suzhou Oriental Dragon Import and Export Co., Ltd | Linyi Tianlu Wood Board Factory | 183.36 | 171.55
Suzhou Oriental Dragon Import and Export Co., Ltd | Linyi Baoshan Board Factory | 183.36 | 171.55
Suzhou Oriental Dragon Import and Export Co., Ltd | Linyi Mingzhu Wood Co., Ltd | 183.36 | 171.55
Suzhou Oriental Dragon Import and Export Co., Ltd | Xinyi Chaohua Wood Co., Ltd | 183.36 | 171.55
Suzhou Oriental Dragon Import and Export Co., Ltd | Pizhou Jinguoyuan Wood Co., Ltd | 183.36 | 171.55
Suzhou Oriental Dragon Import and Export Co., Ltd | Feng County Jihe Wood Co., Ltd | 183.36 | 171.55
Suzhou Oriental Dragon Import and Export Co., Ltd | Dangshan County Weidi Wood Co., Ltd | 183.36 | 171.55
Suzhou Oriental Dragon Import and Export Co., Ltd | Zhucheng Runheng Industrial and Trading Co., Ltd | 183.36 | 171.55
Xuzhou Amish Import & Export Trade Co., Ltd | Xuzhou Amish Import & Export Trade Co., Ltd | 183.36 | 171.55
Xuzhou Andefu Wood Co., Ltd | Fengxian Fangyuan Wood Co., Ltd | 183.36 | 171.55
Xuzhou Baoqi Wood Product Co., Ltd | Linyi Jinghai Board Plant | 183.36 | 171.55
Xuzhou Baoqi Wood Product Co., Ltd | Linyi Lanshan Yulin Board Plant | 183.36 | 171.55
Xuzhou Dilun Wood Co. Ltd | Xuzhou Dilun Wood Co. Ltd | 183.36 | 171.55
Xuzhou DNT Commercial Co., Ltd | Xuzhou Longyuan Wood Industry Co., Ltd | 183.36 | 171.55
Xuzhou DNT Commercial Co., Ltd | Linyi Changcheng Wood Co., Ltd | 183.36 | 171.55
Xuzhou DNT Commercial Co., Ltd | Feixian Jinde Wood Co., Ltd | 183.36 | 171.55
Xuzhou DNT Commercial Co., Ltd | Suzhou Dongsheng Wood Co., Ltd | 183.36 | 171.55
Xuzhou DNT Commercial Co., Ltd | Fengxian Fangyuan Wood Co., Ltd | 183.36 | 171.55
Xuzhou DNT Commercial Co., Ltd | Xuzhou City Hengde Wood Products Co., Ltd | 183.36 | 171.55
Xuzhou DNT Commercial Co., Ltd | Pizhou Jiangshan Wood Co., Ltd | 183.36 | 171.55
Xuzhou DNT Commercial Co., Ltd | Linyi Huasheng Yongbin Wood Corp | 183.36 | 171.55
Xuzhou DNT Commercial Co., Ltd | Pizhou Jinguoyuan Wood Co., Ltd | 183.36 | 171.55
Xuzhou DNT Commercial Co., Ltd | Linyi Mingzhu Wood Co., Ltd | 183.36 | 171.55
Xuzhou DNT Commercial Co., Ltd | Linyi Renlin Wood Industry Co., Ltd | 183.36 | 171.55
Xuzhou DNT Commercial Co., Ltd | Binzhou Yongsheng Artificial Board Industrial & Training Co., Ltd | 183.36 | 171.55
Xuzhou DNT Commercial Co., Ltd | Xuzhou Zhongcai Wood Co., Ltd | 183.36 | 171.55
Xuzhou DNT Commercial Co., Ltd | Anhui Xinyuanda Wood Co., Ltd | 183.36 | 171.55
Xuzhou DNT Commercial Co., Ltd | Shandong Lianbang Wood Co., Ltd | 183.36 | 171.55
Xuzhou DNT Commercial Co., Ltd | Linyi Xinrui Wood Co., Ltd | 183.36 | 171.55
Xuzhou DNT Commercial Co., Ltd | Shandong Huashi Lvyuan Wood Co., Ltd | 183.36 | 171.55
Xuzhou DNT Commercial Co., Ltd | Xuzhou Fuyu Wood Co., Ltd | 183.36 | 171.55
Xuzhou DNT Commercial Co., Ltd | Linyi Dazhong Wood Co., Ltd | 183.36 | 171.55
Xuzhou DNT Commercial Co., Ltd | Shandong Junxing Wood Co., Ltd | 183.36 | 171.55
Xuzhou DNT Commercial Co., Ltd | Linyi City Lanshan District Linyu Plywood Factory | 183.36 | 171.55
Xuzhou DNT Commercial Co., Ltd | Linyi City Dongfang Fuchao Wood Co., Ltd | 183.36 | 171.55
Xuzhou DNT Commercial Co., Ltd | Linyi Dahua Wood Co., Ltd | 183.36 | 171.55
Xuzhou DNT Commercial Co., Ltd | Linyi Qianfeng Wood Co., Ltd | 183.36 | 171.55
Xuzhou DNT Commercial Co., Ltd | Xuzhou Zhongtong Wood Co., Ltd | 183.36 | 171.55
Xuzhou DNT Commercial Co., Ltd | Shandong Oufan Wood Co., Ltd | 183.36 | 171.55
Xuzhou DNT Commercial Co., Ltd | Shandong Jubang Wood Co., Ltd | 183.36 | 171.55
Xuzhou DNT Commercial Co., Ltd | Xuzhou Changcheng Wood Products Co., Ltd | 183.36 | 171.55
Xuzhou DNT Commercial Co., Ltd | Feixian Jinhao Wood Board Plant | 183.36 | 171.55
Xuzhou DNT Commercial Co., Ltd | Feixian Huafeng Wood Co., Ltd | 183.36 | 171.55
Xuzhou DNT Commercial Co., Ltd | Dhanshan County Weidi Wood Co., Ltd | 183.36 | 171.55
Xuzhou DNT Commercial Co., Ltd | Xuzhou Hongmei Wood Development Co., Ltd | 183.36 | 171.55
Xuzhou Eastern Huatai International Trading Co., Ltd | Xuzhou Well-Done Wood Co., Ltd | 183.36 | 171.55
Xuzhou Eastern Huatai International Trading Co., Ltd | Linyi Longxin Wood Co., Ltd | 183.36 | 171.55
Xuzhou Eastern Huatai International Trading Co., Ltd | Linyi Xicheng Wood Co., Ltd | 183.36 | 171.55
Xuzhou Eastern Huatai International Trading Co., Ltd | Xuzhou Hongfu Wood Co., Ltd | 183.36 | 171.55
Xuzhou Eastern Huatai International Trading Co., Ltd | Oufan Wooden Products Shandong Co., Ltd | 183.36 | 171.55
Xuzhou Eastern Huatai International Trading Co., Ltd | Dangshan Weidi Wood Co., Ltd | 183.36 | 171.55
Xuzhou Eastern Huatai International Trading Co., Ltd | Xu Zhou Chang Cheng Wood Co,Ltd | 183.36 | 171.55
Xuzhou Hansun Import & Export Co. Ltd | XuZhou Zhongyuan Wood Co., Ltd | 183.36 | 171.55
Xuzhou Jiangheng Wood Products Co., Ltd | Xuzhou Jiangheng Wood Products Co., Ltd | 183.36 | 171.55
Xuzhou Jiangyang Wood Industries Co., Ltd | Xuzhou Jiangyang Wood Industries Co., Ltd | 183.36 | 171.55
Xuzhou Longyuan Wood Industry Co., Ltd | Xuzhou Longyuan Wood Industry Co., Ltd | 183.36 | 171.55
Xuzhou Maker's Mark Building Materials Co., Ltd | Xuzhou Qinglin Wood Co., Ltd | 183.36 | 171.55
Xuzhou Maker's Mark Building Materials Co., Ltd | Xuzhou Maomei Wood Co., Ltd | 183.36 | 171.55
Xuzhou Maker's Mark Building Materials Co., Ltd | Suzhou Jiakaide Wood Co., Ltd | 183.36 | 171.55
Xuzhou Pinlin International Trade Co., Ltd | Xuzhou Longyuan Wood Industry Co., Ltd | 183.36 | 171.55
Xuzhou Pinlin International Trade Co., Ltd | Linyi Changcheng Wood Co., Ltd | 183.36 | 171.55
Xuzhou Pinlin International Trade Co., Ltd | Feixian Jinde Wood Co., Ltd | 183.36 | 171.55
Xuzhou Pinlin International Trade Co., Ltd | Suzhou Dongsheng Wood Co., Ltd | 183.36 | 171.55
Xuzhou Pinlin International Trade Co., Ltd | Fengxian Fangyuan Wood Co., Ltd | 183.36 | 171.55
Xuzhou Pinlin International Trade Co., Ltd | Xuzhou City Hengde Wood Products Co., Ltd | 183.36 | 171.55
Xuzhou Pinlin International Trade Co., Ltd | Pizhou Jiangshan Wood Co., Ltd | 183.36 | 171.55
Xuzhou Pinlin International Trade Co., Ltd | Linyi Huasheng Yongbin Wood Corp | 183.36 | 171.55
Xuzhou Pinlin International Trade Co., Ltd | Pizhou Jinguoyuan Wood Co., Ltd | 183.36 | 171.55
Xuzhou Pinlin International Trade Co., Ltd | Linyi Mingzhu Wood Co., Ltd | 183.36 | 171.55
Xuzhou Pinlin International Trade Co., Ltd | Linyi Renlin Wood Industry Co., Ltd | 183.36 | 171.55
Xuzhou Pinlin International Trade Co., Ltd | Binzhou Yongsheng Artificial Board Industrial & Training Co., Ltd | 183.36 | 171.55
Xuzhou Pinlin International Trade Co., Ltd | Xuzhou Zhongcai Wood Co., Ltd | 183.36 | 171.55
Xuzhou Pinlin International Trade Co., Ltd | Anhui Xinyuanda Wood Co., Ltd | 183.36 | 171.55
Xuzhou Pinlin International Trade Co., Ltd | Shandong Lianbang Wood Co., Ltd | 183.36 | 171.55
Xuzhou Pinlin International Trade Co., Ltd | Linyi Xinrui Wood Co., Ltd | 183.36 | 171.55
Xuzhou Pinlin International Trade Co., Ltd | Shandong Huashi Lvyuan Wood Co., Ltd | 183.36 | 171.55
Xuzhou Pinlin International Trade Co., Ltd | Xuzhou Fuyu Wood Co., Ltd | 183.36 | 171.55
Xuzhou Pinlin International Trade Co., Ltd | Linyi Dazhong Wood Co., Ltd | 183.36 | 171.55
Xuzhou Pinlin International Trade Co., Ltd | Shandong Junxing Wood Co., Ltd | 183.36 | 171.55
Xuzhou Pinlin International Trade Co., Ltd | Linyi City Lanshan District Linyu Plywood Factory | 183.36 | 171.55
Xuzhou Pinlin International Trade Co., Ltd | Linyi City Dongfang Fuchao Wood Co., Ltd | 183.36 | 171.55
Xuzhou Pinlin International Trade Co., Ltd | Linyi Dahua Wood Co., Ltd | 183.36 | 171.55
Xuzhou Pinlin International Trade Co., Ltd | Linyi Qianfeng Wood Co., Ltd | 183.36 | 171.55
Xuzhou Pinlin International Trade Co., Ltd | Xuzhou Zhongtong Wood Co., Ltd | 183.36 | 171.55
Xuzhou Pinlin International Trade Co., Ltd | Shandong Oufan Wood Co., Ltd | 183.36 | 171.55
Xuzhou Pinlin International Trade Co., Ltd | Shandong Jubang Wood Co., Ltd | 183.36 | 171.55
Xuzhou Pinlin International Trade Co., Ltd | Xuzhou Changcheng Wood Products Co., Ltd | 183.36 | 171.55
Xuzhou Pinlin International Trade Co., Ltd | Feixian Jinhao Wood Board Plant | 183.36 | 171.55
Xuzhou Pinlin International Trade Co., Ltd | Feixian Huafeng Wood Co., Ltd | 183.36 | 171.55
Xuzhou Pinlin International Trade Co., Ltd | Dhanshan County Weidi Wood Co., Ltd | 183.36 | 171.55
Xuzhou Pinlin International Trade Co., Ltd | Xuzhou Hongmei Wood Development Co., Ltd | 183.36 | 171.55
Xuzhou Shenghe Wood Co. Ltd | Xuzhou Shenghe Wood Co. Ltd | 183.36 | 171.55
Xuzhou Shengping Imp and Exp Co., Ltd | Xuzhou Longyuan Wood Industry Co., Ltd | 183.36 | 171.55
Xuzhou Shuiwangxing Trading Co., Ltd | Fengxian Jihe Wood Industry Co. Ltd | 183.36 | 171.55
Xuzhou Shuner Import & Export Trade Co. Ltd | Pizhou Fushen Wood Co. Ltd | 183.36 | 171.55
Xuzhou Tianshan Wood Co., Ltd | Xuzhou Tianshan Wood Co., Ltd | 183.36 | 171.55
Xuzhou Timber International Trade Co., Ltd | Xuzhou Jiangheng Wood Products Co., Ltd | 183.36 | 171.55
Xuzhou Timber International Trade Co., Ltd | Xuzhou Jiangyang Wood Industries Co., Ltd | 183.36 | 171.55
Xuzhou Timber International Trade Co., Ltd | Xuzhou Changcheng Wood Co., Ltd | 183.36 | 171.55
Xuzhou Timber International Trade Co., Ltd | Fengxian Shuangxingyuan Wood Co., Ltd | 183.36 | 171.55
Xuzhou Timber International Trade Co., Ltd | Linyi Mingzhu Wood Co., Ltd | 183.36 | 171.55
Xuzhou Timber International Trade Co., Ltd | Linyi City Lanshan District Daqian Wood Board Factory | 183.36 | 171.55
Xuzhou Timber International Trade Co., Ltd | Feixian Hongsheng Wood Co., Ltd | 183.36 | 171.55
Xuzhou Timber International Trade Co., Ltd | Xuzhou Hongwei Wood Co., Ltd | 183.36 | 171.55
Xuzhou Timber International Trade Co., Ltd | Pizhou Jinguoyuan Wood Co., Ltd | 183.36 | 171.55
Xuzhou Timber International Trade Co., Ltd | Linyi Qianfeng Wood Factory | 183.36 | 171.55
Xuzhou Timber International Trade Co., Ltd | Linyi Renlin Wood Industry Co., Ltd | 183.36 | 171.55
Xuzhou Timber International Trade Co., Ltd | Xuzhou Senyuan Wood Products Co., Ltd | 183.36 | 171.55
Xuzhou Timber International Trade Co., Ltd | Jiangsu Lishun Industrial and Trading Co., Ltd | 183.36 | 171.55
Xuzhou Timber International Trade Co., Ltd | Pizhou Xuexin Wood Industry Co., Ltd | 183.36 | 171.55
Xuzhou Timber International Trade Co., Ltd | Feixian Hongjing Board Factory | 183.36 | 171.55
Xuzhou Timber International Trade Co., Ltd | Xuzhou Jiaqiang Wood Industry Co., Ltd | 183.36 | 171.55
Xuzhou Timber International Trade Co., Ltd | Shandong Shelter Forest Products Co., Ltd | 183.36 | 171.55
Xuzhou Timber International Trade Co., Ltd | Jiangsu Binsong Wood Co., Ltd | 183.36 | 171.55
Yangzhou Hanov International Co., Ltd | Linyi Longxin Wood Co., Ltd | 183.36 | 171.55
Yishui Zelin Wood Made Co., Ltd | Yishui Zelin Wood Made Co., Ltd | 183.36 | 171.55
Zhejiang Dehua TB Import & Export Co., Ltd | Dehua TB New Decoration Material Co., Ltd | 183.36 | 171.55
Zhejiang Dehua TB Import & Export Co., Ltd | Zhangjiagang Jiuli Wood Co., Ltd | 183.36 | 171.55
China-Wide Entity |  | 183.36

Notification to Interested Parties

This notice constitutes the antidumping duty order with respect to hardwood plywood from China pursuant to section 736(a) of the Act. Interested parties can find a list of antidumping duty orders currently in effect at http://enforcement.trade.gov/enforcement.

This order and amended final determination are published in accordance with sections 735(e), 736(a) and 777(i) of the Act, and 19 CFR 351.211 and 351.224(e).

Dated: December 28, 2017.
Christian Marsh,
Deputy Assistant Secretary for Enforcement and Compliance.

Appendix

Scope of the Investigation

The merchandise subject to this investigation is hardwood and decorative plywood, and certain veneered panels as described below. For purposes of this proceeding, hardwood and decorative plywood is defined as a generally flat, multilayered plywood or other veneered panel, consisting of two or more layers or plies of wood veneers and a core, with the face and/or back veneer made of non-coniferous wood (hardwood) or bamboo. The veneers, along with the core may be glued or otherwise bonded together. Hardwood and decorative plywood may include products that meet the American National Standard for Hardwood and Decorative Plywood, ANSI/HPVA HP-1-2016 (including any revisions to that standard).

For purposes of this investigation a “veneer” is a slice of wood regardless of thickness which is cut, sliced or sawed from a log, bolt, or flitch. The face and back veneers are the outermost veneer of wood on either side of the core irrespective of additional surface coatings or covers as described below.

The core of hardwood and decorative plywood consists of the layer or layers of one or more material(s) that are situated between the face and back veneers. The core may be composed of a range of materials, including but not limited to hardwood, softwood, particleboard, or medium-density fiberboard (MDF).

All hardwood plywood is included within the scope of this investigation regardless of whether or not the face and/or back veneers are surface coated or covered and whether or not such surface coating(s) or covers obscures the grain, textures, or markings of the wood. Examples of surface coatings and covers include, but are not limited to: Ultra violet light cured polyurethanes; oil or oil-modified or water based polyurethanes; wax; epoxy-ester finishes; moisture-cured urethanes; paints; stains; paper; aluminum; high pressure laminate; MDF; medium density overlay (MDO); and phenolic film. Additionally, the face veneer of hardwood plywood may be sanded; smoothed or given a “distressed” appearance through such methods as hand-scraping or wire brushing. All hardwood plywood is included within the scope even if it is trimmed; cut-to-size; notched; punched; drilled; or has underwent other forms of minor processing.

All hardwood and decorative plywood is included within the scope of this investigation, without regard to dimension (overall thickness, thickness of face veneer, thickness of back veneer, thickness of core, thickness of inner veneers, width, or length). However, the most common panel sizes of hardwood and decorative plywood are 1219 x 1829 mm (48 x 72 inches), 1219 x 2438 mm (48 x 96 inches), and 1219 x 3048 mm (48 x 120 inches).

Subject merchandise also includes hardwood and decorative plywood that has been further processed in a third country, including but not limited to trimming, cutting, notching, punching, drilling, or any other processing that would not otherwise remove the merchandise from the scope of the investigation if performed in the country of manufacture of the in-scope product.

The scope of the investigation excludes the following items: (1) Structural plywood (also known as “industrial plywood” or “industrial panels”) that is manufactured to meet U.S. Products Standard PS 1-09, PS 2-09, or PS 2-10 for Structural Plywood (including any revisions to that standard or any substantially equivalent international standard intended for structural plywood), and which has both a face and a back veneer of coniferous wood; (2) products which have a face and back veneer of cork; (3) multilayered wood flooring, as described in the antidumping duty and countervailing duty orders on Multilayered Wood Flooring from the People's Republic of China, Import Administration, International Trade Administration. See Multilayered Wood Flooring from the People's Republic of China, 76 FR 76690 (December 8, 2011) (amended final determination of sales at less than fair value and antidumping duty order), and Multilayered Wood Flooring from the People's Republic of China, 76 FR 76693 (December 8, 2011) (countervailing duty order), as amended by Multilayered Wood Flooring from the People's Republic of China: Amended Antidumping and Countervailing Duty Orders, 77 FR 5484 (February 3, 2012); (4) multilayered wood flooring with a face veneer of bamboo or composed entirely of bamboo; (5) plywood which has a shape or design other than a flat panel, with the exception of any minor processing described above; (6) products made entirely from bamboo and adhesives (also known as “solid bamboo”); and (7) Phenolic Film Faced Plyform (PFF), also known as Phenolic Surface Film Plywood (PSF), defined as a panel with an “Exterior” or “Exposure 1” bond classification as is defined by The Engineered Wood Association, having an opaque phenolic film layer with a weight equal to or greater than 90g/m3 permanently bonded on both the face and back veneers and an opaque, moisture resistant coating applied to the edges.

Excluded from the scope of this investigation are wooden furniture goods that, at the time of importation, are fully assembled and are ready for their intended uses. Also excluded from the scope of this investigation is “ready to assemble” (RTA) furniture. RTA furniture is defined as (A) furniture packaged for sale for ultimate purchase by an end-user that, at the time of importation, includes (1) all wooden components (in finished form) required to assemble a finished unit of furniture, (2) all accessory parts (e.g., screws, washers, dowels, nails, handles, knobs, adhesive glues) required to assemble a finished unit of furniture, and (3) instructions providing guidance on the assembly of a finished unit of furniture; (B) unassembled bathroom vanity cabinets, having a space for one or more sinks, that are imported with all unassembled hardwood and hardwood plywood components that have been cut-to-final dimensional component shape/size, painted or stained prior to importation, and stacked within a singled shipping package, except for furniture feet which may be packed and shipped separately; or (C) unassembled bathroom vanity linen closets that are imported with all unassembled hardwood and hardwood plywood components that have been cut-to-final dimensional shape/size, painted or stained prior to importation, and stacked within a single shipping package, except for furniture feet which may be packed and shipped separately.

Excluded from the scope of this investigation are kitchen cabinets that, at the time of importation, are fully assembled and are ready for their intended uses. Also excluded from the scope of this investigation are RTA kitchen cabinets. RTA kitchen cabinets are defined as kitchen cabinets packaged for sale for ultimate purchase by an end-user that, at the time of importation, includes (1) all wooden components (in finished form) required to assemble a finished unit of cabinetry, (2) all accessory parts (e.g., screws, washers, dowels, nails, handles, knobs, hooks, adhesive glues) required to assemble a finished unit of cabinetry, and (3) instructions providing guidance on the assembly of a finished unit of cabinetry.

Excluded from the scope of this investigation are finished table tops, which are table tops imported in finished form with pre-cut or drilled openings to attach the underframe or legs. The table tops are ready for use at the time of import and require no further finishing or processing.

Excluded from the scope of this investigation are finished countertops that are imported in finished form and require no further finishing or manufacturing.

Excluded from the scope of this investigation are laminated veneer lumber door and window components with (1) a maximum width of 44 millimeters, a thickness from 30 millimeters to 72 millimeters, and a length of less than 2413 millimeters (2) water boiling point exterior adhesive, (3) a modulus of elasticity of 1,500,000 pounds per square inch or higher, (4) finger-jointed or lap-jointed core veneer with all layers oriented so that the grain is running parallel or with no more than 3 dispersed layers of veneer oriented with the grain running perpendicular to the other layers; and (5) top layer machined with a curved edge and one or more profile channels throughout.

Imports of hardwood plywood are primarily entered under the following Harmonized Tariff Schedule of the United States (HTSUS) subheadings: 4412.10.0500;4412.31.0520; 4412.31.0540; 4412.31.0560; 4412.31.0620; 4412.31.0640; 4412.31.0660; 4412.31.2510; 4412.31.2520; 4412.31.2610; 4412.31.2620; 4412.31.4040; 4412.31.4050; 4412.31.4060; 4412.31.4075; 4412.31.4080; 4412.31.4140; 4412.31.4150; 4412.31.4160; 4412.31.4180; 4412.31.5125; 4412.31.5135; 4412.31.5155; 4412.31.5165; 4412.31.5175; 4412.31.5235; 4412.31.5255; 4412.31.5265; 4412.31.5275; 4412.31.6000; 4412.31.6100; 4412.31.9100; 4412.31.9200; 4412.32.0520; 4412.32.0540; 4412.32.0565; 4412.32.0570; 4412.32.0620; 4412.32.0640; 4412.32.0670; 4412.32.2510; 4412.32.2525; 4412.32.2530; 4412.32.2610; 4412.32.2630; 4412.32.3125; 4412.32.3135; 4412.32.3155; 4412.32.3165; 4412.32.3175; 4412.32.3185; 4412.32.3235; 4412.32.3255; 4412.32.3265; 4412.32.3275; 4412.32.3285; 4412.32.5600; 4412.32.3235; 4412.32.3255; 4412.32.3265; 4412.32.3275; 4412.32.3285; 4412.32.5700; 4412.94.1030; 4412.94.1050; 4412.94.3105; 4412.94.3111; 4412.94.3121; 4412.94.3141; 4412.94.3161; 4412.94.3175; 4412.94.4100; 4412.99.0600; 4412.99.1020; 4412.99.1030; 4412.99.1040; 4412.99.3110; 4412.99.3120; 4412.99.3130; 4412.99.3140; 4412.99.3150; 4412.99.3160; 4412.99.3170; 4412.99.4100; 4412.99.5115; and 4412.99.5710.

Imports of hardwood plywood may also enter under HTSUS subheadings 4412.99.6000; 4412.99.7000; 4412.99.8000; 4412.99.9000; 4412.10.9000; 4412.94.5100; 4412.94.9500; and 4412.99.9500. While the HTSUS subheadings are provided for convenience and customs purposes, the written description of the scope of this investigation is dispositive.

[FR Doc. 2017-28482 Filed 1-3-18; 8:45 am]

BILLING CODE 3510-DS-P